DEPARTMENT OF THE INTERIOR

Bureau of Land Management

[NV-930-1020-JL]

Public Meetings on the Great Basin Restoration Initiative

AGENCY: Bureau of Land Management, Department of the Interior.

ACTION: Public Meetings on the Great Basin Restoration Initiative have been scheduled. The purpose of the meetings is to solicit public comment on this Initiative. The Great Basin Restoration Initiative will implement a set of actions in the Great Basin that will promote both plant community diversity and a structure that allows plant communities to be more resilient to disturbance and invasive species over the long term. The Initiative will increase the ecosystem stability of the Great Basin, and focus on getting the most work done in those areas with the most critical resource values and the highest potential for success through a common approach.

SUMMARY: Public Meetings on the Great Basin Restoration Initiative have been scheduled for:

— July 17 at the Bureau of Land Management, Elko, Nevada, Field Office.

— July 18 at the Bureau of Land Management, Ely, Nevada, Field Office.

— July 19 at the Bureau of Land Management, Nevada State Office in Reno.

FOR FURTHER INFORMATION CONTACT: Jo Simpson, U.S. Department of the Interior, Bureau of Land Management, Office of Communications, PO Box 12000, Reno, Nevada 89520-0006 or telephone (775) 861-6586.

Dated: June 21, 2000.
Robert E. Stewart,
Acting Chief, Office of Communications.

[FR Doc. 00-16828 Filed 7-3-00; 8:45 am]

BILLING CODE 4310-HC-P